DEPARTMENT OF AGRICULTURE

Forest Service

Ketchikan Resource Advisory Committee

AGENCY: Forest Service, USDA.

ACTION: Notice of meeting.

SUMMARY: The Ketchikan Resource Advisory Committee will meet in Ketchikan, Alaska, February 17, 2005. The purpose of this meeting is to discuss potential projects under the Secure Rural Schools and Community Self-Determination Act of 2000.

DATES: The meeting will be held February 17, 2005.

ADDRESSES: The meeting will be held at the Southeast Alaska Discovery Center Theater (front entrance), 50 Main Street, Ketchikan, Alaska. Send written comments to Ketchikan Resource Advisory Committee, c/o Acting District Ranger, USDA Forest Service, 3031 Tongass Ave., Ketchikan, AK 99901, or electronically to ikolund@fs.fed.us.

FOR FURTHER INFORMATION CONTACT: Lynn Kolund, Acting District Ranger, Ketchikan-Misty Fiords Ranger District, Tongass National Forest, (907) 228-4100.

SUPPLEMENTARY INFORMATION: The meeting is open to the public. Committee discussion is limited to Forest Service staff and Committee members. However, public input opportunity will be provided and individuals will have the opportunity to address the Committee at that time.

Dated: December 14, 2004.
Forrest Cole,
Forest Supervisor.

[FR Doc. 04-28373 Filed 12-27-04; 8:45 am]

BILLING CODE 3410-11-M